ENVIRONMENTAL PROTECTION AGENCY

40 CFR Part 52

[R04-OAR-2004-NC-0002-200417(b); FRL-7815-8]

Approval and Promulgation of Implementation Plans; North Carolina: Raleigh/Durham Area and Greensboro/Winston-Salem/High Point Area Maintenance Plan Updates

AGENCY: Environmental Protection Agency (EPA).

ACTION: Proposed rule.

SUMMARY: The EPA is proposing to approve the State Implementation Plan (SIP) revision submitted by the North Carolina Department of Environment and Natural Resources on June 4, 2004. This SIP revision satisfies the requirement of the Clean Air Act (CAA) for the second 10-year update for the Raleigh/Durham area (Durham and Wake Counties and a portion of Granville County) and Greensboro/Winston-Salem/High Point area (Davidson, Forsyth, and Guilford Counties and a portion of Davie County) 1-hour ozone maintenance plans.

In the Final Rules section of this Federal Register, the EPA is approving the State's SIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule. The EPA will not institute a second comment period on this document. Any parties interested in commenting on this document should do so at this time.

DATES: Written comments must be received on or before October 20, 2004.

ADDRESSES: Comments may be submitted by mail to: Rosymar De La Torre Colón, Regulatory Development Section, Air Planning Branch, Air, Pesticides and Toxics Management Division, U.S. Environmental Protection Agency, Region 4, 61 Forsyth Street, SW., Atlanta, Georgia 30303-8960. Comments may also be submitted electronically, or through hand delivery/courier. Please follow the detailed instructions described in the direct final rule, ADDRESSES section, which is published in the Rules Section of this Federal Register.

FOR FURTHER INFORMATION CONTACT: Rosymar De La Torre Colón, Regulatory Development Section, Air Planning Branch, Air, Pesticides and Toxics Management Division, U.S. Environmental Protection Agency, Region 4, 61 Forsyth Street, SW., Atlanta, Georgia 30303-8960, (404) 562-8965, delatorre.rosymar@epa.gov, or Matt Laurita, Air Quality Modeling and Transportation Section, Air Planning Branch, Air, Pesticides and Toxics Management Division, U.S. Environmental Protection Agency, Region 4, 61 Forsyth Street, SW., Atlanta, Georgia 30303-8960, (404) 562-9044, laurita.matthew@epa.gov.

SUPPLEMENTARY INFORMATION: For additional information see the direct final rule which is published in the Rules section of this Federal Register.

Dated: September 8, 2004.
A. Stanley Meiburg,
Acting Regional Administrator,Region 4.

[FR Doc. 04-21061 Filed 9-17-04; 8:45 am]

BILLING CODE 6560-50-P